DEPARTMENT OF HOMELAND SECURITY

Coast Guard

[Docket No. USCG-2011-0040]

National Offshore Safety Advisory Committee; Vacancies

AGENCY: Coast Guard, DHS.

ACTION: Request for applications.

SUMMARY: The Coast Guard seeks applications for membership on the National Offshore Safety Advisory Committee. This Committee advises the Coast Guard on matters affecting the offshore industry.

DATES: Completed application forms should reach us on or before April 18, 2011.

ADDRESSES: Application forms are available for download on the Advisory Committee's website at https://homeport.uscg.mil/nosac. Look under FAQ's, NOSAC Application, View Document. You may also request an application form by writing Kevin Y. Pekarek, Alternate Designated Federal Officer (ADFO) of National Offshore Safety Advisory Committee, Commandant (CG-5222), Attn: Vessel and Facility Operations Standards, U.S. Coast Guard, 2100 Second Street, SW., STOP 7126, Washington, DC 20593-7126; or by calling (202) 372-1386; or by faxing (202) 372-1926; or by e-mailing to Kevin.Y.Pekarek2@uscg.mil. Also a copy of the application form, as well as this notice, is available in our online docket, USCG-2011-0040, at http://www.regulations.gov. Send your completed application to Kevin Y. Pekarek, ADFO at the street address above.

FOR FURTHER INFORMATION CONTACT: Kevin Y. Pekarek, ADFO of National Offshore Safety Advisory Committee (NOSAC); telephone (202) 372-1386; fax (202) 372-1926; or e-mail at Kevin.Y.Pekarek2@uscg.mil.

SUPPLEMENTARY INFORMATION: The National Offshore Safety Advisory Committee (NOSAC) (“Committee”) is a Federal advisory committee under 5 U.S.C. App. (Pub. L. 92-463). It was established under authority of Title 6 U.S.C. section 451 and advises the Secretary of Homeland Security on matters affecting the offshore industry.

The Committee expects to meet at least 2 times a year as called for by its charter and normally meets in Houston, Texas or New Orleans, Louisiana. It may also meet for extraordinary purposes. NOSAC or its subcommittees may conduct telephonic meetings at other times throughout the year when necessary for specific tasking.

We will consider applications for the five positions that expired or became vacant on January 31, 2011. The positions are:

(a) One person representing enterprises specializing in the support, by offshore supply vessels or other vessels, of offshore mineral and oil operations including geophysical;

(b) One person representing safety and training related to offshore exploration and construction;

(c) One person representing companies engaged in the production of petroleum;

(d) One person representing environmental interests; and,

(e) One person representing enterprises specializing in offshore drilling.

To be eligible, applicants for all available positions should have expertise and/or knowledge and experience regarding the technology, equipment and techniques that are used or are being developed for use in the exploration for and the recovery of offshore mineral resources.

Registered lobbyists required to comply with provisions contained in the Lobbying Disclosure Act of 1995 (Pub. L. 110-81, as amended) are not eligible to serve on Federal Advisory Committees. Each NOSAC Committee member serves for a term of three years. Members may be considered to serve consecutive terms. All members serve at their own expense and receive no salary or reimbursement of travel expenses, or other compensation from the Federal Government.

In support of the policy of the Coast Guard on gender and ethnic nondiscrimination, we encourage qualified men and women and members of all racial and ethnic groups to apply. The Coast Guard values diversity; all different characteristics and attributes of persons that enhance the mission of the Coast Guard.

If you are interested in applying to become a member of the Committee, send a completed application to Kevin Y. Pekarek, ADFO of NOSAC at Commandant (CG-5222)/NOSAC, U.S. Coast Guard, 2100 Second Street, SW., STOP 7126, Washington, DC 20593-7126. Applications must be received on or before April 18, 2011. Please do not complete the political affiliation portion of the application because all NOSAC appointments are made without regard to political affiliation. In addition to your “HOME ADDRESS”, please include a valid e-mail address in that block. In the “TELEPHONE” block please include a valid contact number.

A copy of the application form is available in the docket for this notice. To visit our online docket, go to http://www.regulations.gov, enter the docket number for this notice (USCG-2011-0040) in the Search box, please do not post your applications on this site.

Dated: February 25, 2011.
J.G. Lantz,
Director of Commercial Regulations and Standards.

[FR Doc. 2011-4647 Filed 3-1-11; 8:45 am]

BILLING CODE 9110-04-P